LIBRARY OF CONGRESS

Copyright Royalty Board

[Docket No. 20-CRB-0008-CA (2020-2025)]

Adjustment of Cable Statutory License Royalty Rates

AGENCY: Copyright Royalty Board, Library of Congress.

ACTION: Notice announcing commencement of proceeding with request for petitions to participate.

SUMMARY: The Copyright Royalty Judges (Judges) announce the commencement of a proceeding to adjust the rates for the cable statutory license described in section 111 of the Copyright Act. The Judges also announce the date by which a party who wishes to participate in the proceeding must file its Petition to Participate and pay the $150 filing fee.

DATES: Petitions to Participate and the filing fee are due no later than July 6, 2020.

ADDRESSES: The petition to participate form is available online in eCRB, the Copyright Royalty Board's online electronic filing application, at https://app.crb.gov/.

Instructions: The petition to participate process has been simplified. Interested parties file a petition to participate by filling out the petition to participate form in eCRB and paying the fee in eCRB. Do not upload a petition to participate document.

Docket: For access to the docket to read submitted documents, go to eCRB, the Copyright Royalty Board's electronic filing and case management system, at https://app.crb.gov/, and search for docket number 20-CRB-0008-CA.

FOR FURTHER INFORMATION CONTACT: Anita Blaine, CRB Program Specialist, by telephone at (202) 707-7658, or by email at crb@loc.gov.

SUPPLEMENTARY INFORMATION:

Background

Section 111 of the Copyright Act grants a statutory copyright license to cable television systems for the retransmission of over-the-air television and radio broadcast stations to their subscribers. 17 U.S.C. 111(c). In exchange for the license, cable operators submit royalty payments and statements of account detailing their retransmissions semiannually to the Copyright Office. 17 U.S.C. 111(d)(1). The Copyright Office deposits the royalties into the United States Treasury for later distribution to copyright owners of the broadcast programming that the cable systems retransmit. 17 U.S.C. 111(d)(2).

A cable system calculates its royalty payments in accordance with the statutory formula described in 17 U.S.C. 111(d)(1). See 37 CFR 387. Royalty rates are based upon a cable system's gross receipts from subscribers who receive retransmitted broadcast signals. For rate calculation purposes, cable systems are divided into three tiers based on their gross receipts (small, medium, and large). 17 U.S.C. 111(d)(1)(B) through (F). Both the applicable rates and the tiers are subject to adjustment. 17 U.S.C. 801(b)(2). Every five years persons with a significant interest in the royalty rates may file petitions to initiate a proceeding to adjust the rates. 17 U.S.C. 804(a) and (b). No person with a significant interest has filed a petition to initiate a proceeding in 2020.¹ The Judges must, therefore, publish notice in the Federal Register announcing the commencement of a proceeding and calling for Petitions to Participate. See 17 U.S.C. 803(b)(1).

¹ With respect to the rates for the 2015-2019 period, the Judges adopted a settlement proposed by the participants to leave the then-current rates unchanged. 81 FR 62813, 62814 (Sept. 13, 2016).

Petitions To Participate

Parties filing Petitions to Participate must use the form in eCRB instead of uploading a document and must comply with the requirements of § 351.1(b) of the Copyright Royalty Board's regulations. 37 CFR 351.1(b).

Dated: June 1, 2020.
Jesse M. Feder,
Chief Copyright Royalty Judge.

[FR Doc. 2020-12096 Filed 6-3-20; 8:45 am]

BILLING CODE 1410-72-P